DEPARTMENT OF ENERGY

National Energy Technology Laboratory

Notice of Availability of a Financial Assistance Solicitation

AGENCY: Department of Energy (DOE), National Energy Technology Laboratory (NETL).

ACTION: Notice inviting financial assistance applications.

SUMMARY: The Department of Energy announces that it intends to conduct a competitive Program Solicitation, DE-PS26-01NT41114, and award financial assistance (Cooperative Agreements) for the program entitled “Supporting Science and Enabling Technologies for Clean Fuels.” Through this solicitation, the DOE/NETL seeks applications on behalf of the DOE's Office of Fossil Energy.

The DOE/NETL, by way of the Federal Financial Assistance application process, is seeking proposals for cost-shared research and development projects that will lead to advanced clean fuels that: (1) Are derived from a diverse mix of secure energy resources; (2) enable mobile (ground, air, and marine) and stationary systems (e.g., home heating and industrial boilers) to comply with increasingly stringent Federal, state, and local emissions standards; (3) are compatible with existing liquid, and/or designed in concert with future, fuels infrastructures; (4) satisfy commercial and military requirements; (5) enable the efficiency of the transportation fleet to be more than doubled, and (6) are cost competitive with conventional fuels.

This solicitation seeks to create strategic partnerships targeted at the development and verification of advanced fuel-making processes that utilize stable fossil resources. These processes will enable the production of clean transportation fuels that improve the environment, while also expanding and diversifying the fossil resource base. This solicitation represents a major step toward establishing the scientific and engineering foundation on which the next generation of transportation fuel technologies will rest.

DATES: A draft Program Solicitation will be available on or about January 24, 2001. Comments and/or questions concerning the draft version must be submitted to, and received by the DOE Contract Specialist no later than February 23, 2001. The mailing and E-mail addresses are provided below.

ADDRESSES: The draft Program Solicitation will be available on the DOE/NETL's Internet address at http://www.netl.doe.gov/business/solicit. The final version of the solicitation along with all amendments will be posted at this same Internet address; applicants are therefore encouraged to periodically check this NETL address to ascertain the status of these documents. Applications must be prepared and submitted in accordance with the instructions and forms contained in the final version of this Program Solicitation.

FOR FURTHER INFORMATION CONTACT: Larry D. Gillham, MS: 921-118, U.S. Department of Energy, National Energy Technology Laboratory, 626 Cochrans Mill Road, P.O. Box 10940, Pittsburgh, PA 15236-0940, E-mail Address: gillham@netl.doe.gov, Telephone Number: (412) 386-5817.

SUPPLEMENTARY INFORMATION: The DOE anticipates award of multiple cost-sharing cooperative agreements; but the DOE reserves the right to award the agreement type and number deemed in its best interest. As required in Section 3002, Title XXX of the Energy Policy Act (EPAct), offerors are advised that mandatory 20% cost-share will be required for each project. Not all of the necessary funds are currently available for this solicitation; the Government's obligation under any cooperative agreement awarded is contingent upon the availability of appropriated FY2001 through FY2006 funds.

It is DOE's desire to encourage the widest participation including the involvement of small business concerns, and small disadvantaged business concerns. Multiple pre-solicitation workshops are planned. Information on the dates, times and locations of the pre-solicitation workshops may be found on the NETL website at http://www.netl.doe.gov/business/solicit/index.html. In order to gain the necessary expertise to review proposals, non-Federal personnel may be used as evaluators or advisors in the evaluation of proposals.

Issued in Pittsburgh, PA on January 12, 2001.
Dale A. Siciliano,
Deputy Director, Acquisition and Assistance Division.

[FR Doc. 01-2466 Filed 1-26-01; 8:45 am]

BILLING CODE 6450-01-P